DEPARTMENT OF ENERGY

Office of Science

Basic Energy Sciences Advisory Committee; Meeting

AGENCY: Department of Energy.

ACTION: Notice of open meeting.

SUMMARY: This notices announces a meeting of the Basic Energy Sciences Advisory Committee (BESAC). Federal Advisory Committee Act (Public Law 92-463, 86 Stat. 770) requires that public notice of these meetings be announced in the Federal Register.

DATES: Tuesday, October 10, 2000, 8:15 a.m. to 5:15 p.m., and Wednesday, October 11, 2000, 8:30 a.m. to 12:15 p.m.

ADDRESSES: Gaithersburg Marriott Washingtonian Center, 9751 Washingtonian Boulevard, Gaithersburg, MD 20878.

FOR FURTHER INFORMATION CONTACT: Sharon Long; Office of Basic Energy Sciences; U. S. Department of Energy; 19901 Germantown Road; Germantown, MD 20874-1290; Telephone: (301) 903-5565.

SUPPLEMENTARY INFORMATION:

Purpose of the Meeting

The purpose of this meeting is to provide advice and guidance with respect to the basic energy sciences research program.

Tentative Agenda

Agenda will include discussions of the following:

Tuesday, October 10, 2000

• Welcome and Introduction

• Remarks from Director, Office of Science

• News from Basic Energy Sciences

• FY2001 Budget for Basic Energy Sciences

• Report on the Linac Coherent Light Source (LCLS) Scientific Case

Wednesday, October 11, 2000

• Update on Future BESAC Activities

• Brief Overviews of Basic Energy Sciences Divisions

Public Participation

The meeting is open to the public. If you would like to file a written statement with the Committee, you may do so either before or after the meeting. If you would like to make oral statements regarding any of the items on the agenda, you should contact Sharon Long at 301-903-6594 (fax) or sharon.long@science.doe.gov (e-mail). You must make your request for an oral statement at least 5 business days prior to the meeting. Reasonable provision will be made to include the scheduled oral statements on the agenda. The Chairperson of the Committee will conduct the meeting to facilitate the orderly conduct of business. Public comment will follow the 10-minute rule.

Minutes

The minutes of this meeting will be available for public review and copying within 30 days at the Freedom of Information Public Reading Room; 1E-190, Forrestal Building; 1000 Independence Avenue, SW., Washington, DC 20585; between 9:00 a.m. and 4:00 p.m., Monday through Friday, except holidays.

Issued in Washington, DC on September 18, 2000.
Rachel M. Samuel,
Deputy Advisory Committee, Management Officer.

[FR Doc. 00-24263 Filed 9-20-00; 8:45 am]

BILLING CODE 6450-01-P